DEPARTMENT OF ENERGY

Federal Energy Regulatory Commission

[Docket No. RP03-353-000]

Portland Natural Gas Transmission System; Notice of Proposed Change in FERC Gas Tariff

May 1, 2003.

Take notice that on April 28, 2003, Portland Natural Gas Transmission System (PNGTS) tendered for filing to its FERC Gas Tariff, Original Volume No. 1, the following revised tariff sheets, to become effective on June 1, 2003:

First Revised Sheet No. 1

First Revised Sheet No. 2

Sixth Revised Sheet No. 100

Original Sheet No. 214

Original Sheet No. 215

Original Sheet No. 216

Original Sheet No. 217

Original Sheet No. 218

Second Revised Sheet No. 302

Second Revised Sheet No. 307

Second Revised Sheet No. 326

Second Revised Sheet No. 339

Original Sheet No. 560

Original Sheet No. 561

Original Sheet No. 562

Original Sheet No. 563

Original Sheet No. 564

Original Sheet No. 565

Original Sheet No. 566

PNGTS states that the purpose of its filing is to establish a new Rate Schedule FT-Flex, which is a firm service when scheduled, subject to PNGTS's right to “not schedule” service on up to ten days each month. PNGTS states that it is proposing this service to provide additional options to shippers who generally need firm service, but can accept periodic interruption of their service in exchange for a lower reservation rate. PNGTS states that no new facilities are required to provide FT-Flex service, and PNGTS will incur only nominal additional costs.

PNGTS states that copies of this filing are being served on all jurisdictional customers and interested state commissions.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 12, 2003.

Magalie R. Salas,
Secretary.

[FR Doc. 03-11385 Filed 5-6-03; 8:45 am]

BILLING CODE 6717-01-P